DEPARTMENT OF ENERGY

Federal Energy Regulatory Commission

[Docket No. EL05-3-000]

Kansas City Power and Light Company and Great Plains Power, Inc.; Notice of Initiation of Proceeding and Refund Effective Date

December 28, 2004.

On December 17, 2004, the Commission issued an order in Docket Nos. ER99-1005-001, 002 and 003, and ER02-725-003 and 004. The Commission's order institutes a proceeding in Docket No. EL05-3-000 under section 206 of the Federal Power Act with respect to the justness and reasonableness of Kansas City Power and Light Company's market-based rates.

The refund effective date in Docket No. EL05-3-000, established pursuant to section 206(b) of the Federal Power Act will be 60 days following publication of this notice in the Federal Register.

Magalie R. Salas,
Secretary.

[FR Doc. E4-3928 Filed 1-4-05; 8:45 am]

BILLING CODE 6717-01-P